DEPARTMENT OF COMMERCE

National Oceanic and Atmospheric Administration

[RTID 0648-XA888]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow a single commercial fishing vessel to participate in exploratory fishing Gulf of Maine, targeting haddock with 6-inch (15.24-cm) mesh gillnet gear. Regulations under the Magnuson-Stevens Fishery Conservation and Management Act require publication of this notice to provide interested parties the opportunity to comment on Exempted Fishing Permit applications.

DATES: Comments must be received on or before October 29, 2021.

ADDRESSES: You may submit written comments by either of the following methods:

• Email: nmfs.gar.efp@noaa.gov. Include in the subject line “Comments on NESSN 6-Inch Mesh Gillnet EFP.”

• Mail: Michael Pentony, Regional Administrator, NMFS, Greater Atlantic Regional Fisheries Office, 55 Great Republic Drive, Gloucester, MA 01930. Mark the outside of the envelope “Comments on NESSN 6-Inch Mesh Gillnet EFP.”

FOR FURTHER INFORMATION CONTACT: Spencer Talmage, Fishery Management Specialist, 978-281-9232, Spencer.Talmage@noaa.gov.

SUPPLEMENTARY INFORMATION: The Northeast Sector Service Network (NESSN) submitted a complete application for an Exempted Fishing Permit (EFP) in support of an exploratory fishing project in the Gulf of Maine (GOM) Regulated Mesh Area (RMA). The EFP would exempt a single commercial fishing vessel from the 6.5-inch (16.51-cm) minimum mesh size restriction for day gillnet vessels fishing in the GOM RMA. The proposed EFP is intended to generate catch composition and gear comparison data to inform future studies on the feasibility of using 6-inch (15.24-cm) mesh gillnet gear to target GOM haddock while minimizing catch of GOM cod.

Activity under this EFP would occur from January 1, 2022 through May 31, 2022 within the GOM RMA. The participating vessel plans to take between 25 to 35 EFP trips, which will each average between 2 and 3 days in length. During each trip, the vessel would deploy 5 to 8 sets of 6-inch (15.24-cm) mesh gillnet gear. The maximum number of individual gillnets that would be deployed is 75. Soak time would not exceed 24 hours, and the vessel will not leave the fishing grounds while gear is fishing.

The participating vessel would also periodically deploy 6.5-inch (16.51-cm) mesh gillnet and/or longline gear alongside the exploratory gear to generate data for catchability comparisons between these different gear types. The 6.5 inch (16.51-cm) gillnet gear would consist of a single string of 12 to 24 nets, while the longline gear would be 1,000 to 2,400 hooks fished as a 1 to 4 strings.

A northeast fisheries at-sea monitor or observer will be deployed on all groundfish trips taken under the EFP. Allowable discards will be discarded at-sea, while all other species will be retained, landed, and processed per normal commercial fishing procedures. Monitors will document all discards of allocated sub-legal catch. NESSN and the participating vessel are responsible paying for the additional monitoring for the EFP trips.

All catch, including landings and discards, will be deducted from Sector ACE as normal. Catch estimates for the project provided by NESSN are shown in Table 1, and based on previous catch by the participating vessel under normal fishing conditions.

Table 1—Estimated Total Catch of Groundfish on EFP Trips
Stock | Estimated total catch: Legal sized catch | Estimated total catch: Sub-legal discards
Acadian Redfish | 50 lb (22.7 kg) | 0 lb.
American Plaice | 10 lb (4.5 kg) | 0 lb.
GOM Cod | 600 lb (272.2 kg) | 30 lb (13.6 kg).
Atlantic Halibut | 50 lb (22.7 kg) | 0 lb.
Atlantic Wolffish | 0 lb | 5 (2.3 kg).
GOM Haddock | 35,000 lb (15,875.7 kg) | 300 (136.1 kg).
Ocean Pout | 0 lb | 0 lb.
Pollock | 15,000 lb (6,803.9 kg) | 100 lb (45.4 kg).
White Hake | 1,000 lb (453.6 kg) | 50 lb (22.7 kg).
Witch Flounder | 10 lb (4.5 kg) | 0 lb.
N. Windowpane Flounder | 0 lb | 0 lb.
GOM Winter Flounder | 40 lb (18.1 kg) | 5 lb (2.3 kg).
CC/GOM Yellowtail Flounder | 40 lb (18.1 kg) | 5 lb (2.3 kg).

The exemption from the mesh size restriction for day gillnet vessels at 50 CFR 648.80(a)(3)(iv)(B)(1) is necessary to allow the participating vessel to conduct exploratory fishing with 6-inch mesh gillnet gear under the proposed EFP.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 7, 2021.
Jennifer M. Wallace,
Acting Director, Office of Sustainable Fisheries, National Marine Fisheries Service.

[FR Doc. 2021-22290 Filed 10-13-21; 8:45 am]

BILLING CODE 3510-22-P